DEPARTMENT OF THE INTERIOR

Bureau of Land Management

[CA-190-04-1610-DP]

Notice of Intent To Prepare a Resource Management Plan Revision/Environmental Impact Statement

AGENCY: Bureau of Land Management, Department of the Interior.

ACTION: Notice of intent.

SUMMARY: This Notice of Intent was developed under the authority of the planning regulations (43 CFR 1610.2 (c)). Pursuant to section 202 of the Federal Land Policy and Management Act of 1976 (FLPMA) and section 102 (2)(C) of the National Environmental Policy Act of 1969 (NEPA), the Bureau of Land Management (BLM), Hollister Field Office will prepare a Resource Management Plan (RMP) Revision and Environmental Impact Statement (EIS) for approximately 278,000 acres of public land. The planning area is located within portions of the following counties: Alameda, Contra Costa, Fresno, Madera, Merced, Modesto, Monterey, San Benito, San Joaquin, San Mateo, Santa Clara, Santa Cruz, and Stanislaus. The revised land use plan will establish land use management policy for multiple resource uses and will guide resource management in these areas into the foreseeable future. The RMP Revision will be prepared under guidance provided through 43 CFR part 1600 (BLM Planning Regulations). The BLM will work closely with interested parties to identify issues, resolve disputes, and develop management actions that are best suited to the management of the resources and the needs of the public. This collaborative process will take into account local, regional, and national concerns. This Notice formally initiates the public scoping process to identify planning issues and to review preliminary planning criteria.

DATES: This notice initiates the public scoping process. Public scoping comments and resource information submissions will be most effective if submitted within 90 days of publication of this notice. Public meetings, public comment periods, and comment closing dates will be announced through local news media, and newsletters.

ADDRESSES: Written comments should be sent to “RMP COMMENTS”, BLM, Hollister Field Office, 20 Hamilton Court, Hollister, CA, 95023. Fax: 831-630-5055. Documents pertinent to this proposal may be examined at the Hollister Field Office. Comments, including names and street addresses of respondents, will be available for public review at the Hollister Field Office during regular business hours, 7:30 a.m. to 4 p.m., Monday through Friday, except holidays, and may be published as part of the RMP/EIS.

Individual respondents may request confidentiality. If you wish to withhold your name or address from public review or from disclosure under the Freedom of Information Act, you must state this prominently at the beginning of your written comment. Such requests will be honored to the extent allowed by law. BLM will not consider anonymous comments. All submissions from organizations and businesses, and from individuals identifying themselves as representatives or officials of organizations or businesses, will be available for public inspection in their entirety.

FOR FURTHER INFORMATION CONTACT: George E. Hill, Assistant Field Manager, BLM, Hollister Field Office, 20 Hamilton Court, Hollister, CA, 95023, phone: 831-630-5036. To have your name added to our mailing list, contact Lesly Smith, Outdoor Recreation Planner, BLM, Hollister Field Office, 20 Hamilton Court, Hollister, CA, 95023, phone: 831-630-5015.

SUPPLEMENTARY INFORMATION: Opportunities to participate will occur throughout the planning process. To ensure local community participation and input, public scoping meetings will be held, at a minimum, in three towns strategically located in or near the planning area. Early participation by all interested parties is encouraged and will help guide the planning process and determine the future management of public lands. All activities where the public is invited to attend will be announced at least 15 days prior to the event in local news media. The minutes and list of attendees for each meeting will be available to the public and open for 30 days to any participant who wishes to clarify their views. Written comments will be accepted throughout the planning process at the address shown above. Additional formal opportunities for public participation and comment will be provided upon publication of the draft RMP Revision and draft EIS.

Preliminary issues and management concerns have been identified by BLM personnel, other agencies, and in meetings with individuals and user groups. The preliminary issues are: Management of public land resources at the watershed level; off-highway vehicle management and designations; management of ecosystems and riparian areas to maintain and improve properly functioning conditions; implementation of the Federal Wildland Fire Policy; fluid and solid mineral development; effects of urban interface and meeting the needs of local and regional communities; land tenure adjustments; status of Areas of Critical Environmental Concern and consideration of lands for special management designation; identification of resource values on recently acquired public lands; sustaining traditional practices of Native American cultures; and providing recreation opportunities to meet the recreation demand.

Preliminary management concerns include: Management of current and future special status species; addressing impacts to human health and resources from past mining activities; addressing resource management impacts to air quality in non-attainment areas; reducing impacts to watershed resources and water quality; disproportionate impacts to disadvantaged communities resulting from execution of land management decisions (Environmental Justice Executive Order 12898); the potential for the spread of noxious weeds; and the management of designated streams (Clean Water Act, section 303-(d)).

These preliminary issues will be further redefined by direct input through active public participation. The public is encouraged to help identify issues, questions, and concerns during the scoping phase. An interdisciplinary approach will be used to develop the plan in order to consider the variety of resource issues and concerns identified. The interdisciplinary team involved in the planning process will include specialists with expertise in minerals and geology, forestry, range, fire and fuels, outdoor recreation, archaeology, paleontology, wildlife and fisheries, lands and realty, hydrology, soils, air quality, sociology and economics.

Planning criteria will be developed during public scoping to help guide the planning effort. Preliminary planning criteria being considered for the Hollister planning effort require that BLM: Recognize valid existing rights; comply with existing law, executive orders, regulation, and BLM policy and program guidance; seek public input; consider adjoining non-public lands when making management decisions to minimize land use conflicts; consider planning jurisdictions of other federal agencies, and state, local and tribal governments; develop reasonable and sound alternatives; use current scientific data to evaluate appropriate management strategies; analyze socioeconomic effects of alternatives along with the environmental effects; carry forward valid analysis from existing documents and incorporate the Rangeland Health Standards and Guidelines and the Hollister Oil and Gas RMP amendment. The Hollister Field Office is presently managed under the Hollister RMP (1984, as amended). Information and decisions from the existing Hollister RMP will be reviewed and incorporated in this plan revision to the extent possible. Management will continue under the Hollister RMP until the revised RMP is approved.

Dated: January 28, 2004.
Robert E. Beehler,
Field Manager.

[FR Doc. 04-6999 Filed 3-29-04; 8:45 am]

BILLING CODE 4310-40-P